ENVIRONMENTAL PROTECTION AGENCY

[FRL-6885-3]

Adequacy Status of Submitted State Implementation Plans (SIP) for Transportation Conformity Purposes: Dallas-Fort Worth (DFW) and Beaumont-Port Arthur (BPA) Attainment Demonstration SIPs for Ozone

AGENCY: Environmental Protection Agency (EPA).

ACTION: Notice of adequacy determination.

SUMMARY: In this notice, the EPA is announcing that the motor vehicle emissions budgets contained in the submitted DFW and BPA Attainment Demonstration State Implementation Plans (SIP) for ozone are adequate for transportation conformity purposes. As a result of this determination, the budgets from the submitted attainment SIPs must be used for transportation conformity determinations in the DFW and BPA areas. The EPA received no public comments.

DATES: These budgets are effective November 6, 2000.

FOR FURTHER INFORMATION CONTACT: Mr. J. Behnam, P.E., The U.S. Environmental Protection Agency, 1445 Ross Avenue, Dallas, Texas 75202; telephone (214) 665-7247.

SUPPLEMENTARY INFORMATION: Transportation conformity is required by section 176(c) of the Clean Air Act. The EPA's conformity rule, 40 CFR part 93, requires that transportation plans, programs, and projects conform to SIPs and establishes the criteria and procedures for determining whether or not they do. Conformity to a SIP means that transportation activities will not produce new air quality violations, worsen existing violations, or delay timely attainment of the national ambient air quality standards. The criteria by which EPA determines whether a SIP's motor vehicle emission budgets are adequate for conformity purposes are outlined in 40 CFR 93.118(e)(4). An adequacy review is separate from EPA's completeness review, and it should not be used to prejudge EPA's ultimate approval of the SIP. Even if we find a budget adequate, the SIP could later be disapproved.

On March 2, 1999, the United States Court of Appeals for the District of Columbia Circuit issued its opinion in Environmental Defense Fund (EDF) v. Environmental Protection Agency, 167 F.3d 641 (D.C. Cir. 1999), and ruled that budgets contained in submitted SIPs cannot be used for conformity determinations unless EPA has affirmatively found the conformity budget adequate. We have described our process for determining the adequacy of submitted SIP budgets in the policy guidance dated May 14, 1999, and titled Conformity Guidance on Implementation of March 2, 1999 Conformity Court Decision. You may obtain a copy of this guidance from EPA's conformity web site: http://www.epa.gov/oms/traq (once there, click on “conformity” and then scroll down) or by contacting us at the address above.

By this notice, we are simply announcing the DFW and BPA adequacy determinations that we have already made. The Governor of Texas submitted the DFW Attainment Demonstration SIP on April 25, 2000. The Attainment SIP contained the 2007 motor vehicle emissions budgets for VOC (107.60 tons/day) and NOX (164.30 tons/day) for the DFW ozone nonattainment area. On May 9, 2000, the availability of those budgets was posted on EPA's web site for the purpose of soliciting public comments. The public comment period closed on June 8, 2000, and the EPA did not receive any comments. Also, the Governor submitted additional information on the BPA Attainment Demonstration SIP on April 25, 2000, to supplement the November 15, 1999, initial submission. The Attainment SIP contained the 2007 motor vehicle emissions budgets for VOC (17.22 tons/day) and NOX (29.94 tons/day) for the BPA ozone nonattainment area. On August 1, 2000, the availability of those budgets was posted on EPA's web site for the purpose of soliciting public comments. The public comment period closed on August 31, 2000, and the EPA did not receive any comments. After the public comment process, we sent a letter, dated September 6, 2000, to the Texas Natural Resource Conservation Commission stating that these budgets are adequate and they must be used for transportation conformity determinations.

Therefore, the budgets contained in the submitted DFW and BPA Attainment SIPs as cited in this notice must be used for transportation conformity by the Metropolitan Planning Organizations in the DFW and BPA areas.

Dated: September 29, 2000.
Myron M. Knudson,
Acting Regional Administrator, Region 6.

[FR Doc. 00-27035 Filed 10-19-00; 8:45 am]

BILLING CODE 6560-50-P